DEPARTMENT OF AGRICULTURE

Agricultural Marketing Service

[Doc. No. AMS-FV-16-0025, SC-16-333]

Request for Extension and Revision of a Currently Approved Information Collection, OMB 0581-0125 Regulations Governing Inspection Certification of Fresh & Processed Fruits, Vegetables, & Other Products 7 CFR Part 51 and 52, and To Merge 0581-0292 Specialty Crops Inspection Order Forms into OMB 0581-0125

AGENCY: Agricultural Marketing Service, USDA.

ACTION: Notice of renewal and merge request.

SUMMARY: In accordance with the Paperwork Reduction Act of 1995 (44 U.S.C. Chapter 35), this notice announces the Agricultural Marketing Service's (AMS) intention to request approval from the Office of Management and Budget (OMB) for an extension and revision to the currently approved information collection of 0581-0125 Regulations Governing Inspection Certification of Fresh & Processed Fruits, Vegetables, & Other Products 7 CFR part 51 and 52, and request approval to merge the previously approved, 0581-0292 Specialty Crops Inspection Division Order Forms into 0581-0125 Regulations Governing Inspection Certification of Fresh & Processed Fruits, Vegetables, & Other Products 7 CFR part 51 and 52. By this action, all services and related forms used to collect information will be in one collection with no duplicative burden.

DATES: Comments on this notice must be received by June 27, 2016 to be considered.

ADDRESSES: Interested persons are invited to submit comments concerning this notice. Comments should be submitted online at www.regulations.gov or sent to ToiAyna Thompson, U.S. Department of Agriculture (USDA), 1400 Independence Avenue SW., Stop 0247, Room 1543-S Washington, DC 20250-0250, or by facsimile to (202) 690-3824. All comments should reference the document number, and the date and page number of this issue of the Federal Register. All comments received will be posted without change, including any personal information provided, online at http://www.regulations.gov and will be made available for public inspection at the above physical address during regular business hours.

FOR FURTHER INFORMATION CONTACT: Contact ToiAyna Thompson, Management Support Staff, Specialty Crops Inspection Division, Specialty Crops Program, U.S. Department of Agriculture, STOP 0247, 1400 Independence Avenue SW., Washington, DC 20250-0250; telephone: (202) 720-0867; FAX: (202) 690-3824; email Toiayna.Thompson@ams.usda.gov; or, Internet: http://www.regulations.gov.

SUPPLEMENTARY INFORMATION: With this request for an Extension and Revision of a Currently Approved Information Collection and a Merge Request, we are combining the totals for both collections in this renewal collection.

Title: Regulations Governing Inspection Certification of Fresh & Processed Fruits, Vegetables, & Other Products 7 CFR part 51 and 52.

OMB Number: 0581-0125.

Expiration Date of Approval: 3 years from approval.

Type of Request: Extension and Revision of a currently approved information collection.

Abstract: The Agricultural Marketing Act of 1946, (7 U.S.C. 1621-1627) as amended authorizes the Agricultural Marketing Service, Specialty Crops Inspection Division to provide inspection and certification of the quality and condition of agricultural products. The Specialty Crops Inspection Division provides a nationwide inspection, grading, and auditing service for fresh and processed fruits, vegetables and other products for shippers, importers, processors, sellers, buyers, and other financially interested parties on a user-fee basis. The use of services is voluntary and is made available only upon request or when specified by a special program or contract. Information is needed to carry out the inspection, grading, or auditing services. Such information includes; the name and location of the person or company requesting services; the type of inspection being requested; and information that will identify the product or type and scope of audit requested. Upon approval, AMS will request discontinuations of 0581-0292 from OMB. With this submission of renewal and merging of two collections that have been previously approved, the Division will be better able to efficiently manage the collection and prevent duplication of burden.

This is a request for renewal of OMB 0581-0125 and subsequent merger of 0581-0292 Specialty Crops Inspection Division Order Forms into 0581-0125 Regulations Governing Inspection Certification of Fresh & Processed Fruits, Vegetables, & Other Products 7 CFR part 51 and 52.

OMB 0581-0125 Regulations Governing Inspection, Certification of Fresh and Processed Fruits, Vegetables and Other Products 7 CFR Part 51 and 52

Estimate of Burden: Public reporting burden for this collection is estimated to average 0.15 hours per response.

Respondents: Business or other for-profit, nonprofit organization, farms or Federal, state, local or Tribal governments.

Estimated Number of Respondents: 10,108.

Estimated Total Annual Responses: 144,992.

Estimated Number of Responses per Respondent: 14.34.

Estimated Total Annual Burden on Respondents: 21,127.

OMB 0581-0292 Specialty Crops Inspection Division Order Forms

Estimate of Burden: Public reporting burden for this collection of information is estimated to average .08 hours per response.

Respondents: Federal and State.

Estimated Number of Respondents: 49,892.

Estimated Total Annual Responses: 49,892.

Estimated Number of Responses per Respondent: 1.

Estimated Total Annual Burden on Respondents: 4,156.

OMB 0581-0292 Specialty Crops Inspection Division Order Forms Merged into OMB 0581-0125 Regulations Governing Inspection Certification of Fresh & Processed Fruits, Vegetables & Other Products 7 CFR Part 51 and 52

Estimated Total Annual Responses: 194,176.

Estimated Total Annual Burden on Respondents: 25,283.

Comments are invited on: (1) Whether the proposed collection of information is necessary for the proper performance of the functions of the agency, including whether the information will have practical use; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to ToiAyna Thompson, Management Support Staff, Specialty Crops Inspection Division, Specialty Crops Program, U.S. Department of Agriculture, STOP 0247, 1400 Independence Avenue SW., Washington, DC 20250; telephone: (202) 720-0867; FAX: (202) 690-3824; or Internet: http://www.regulations.gov.

All comments received will be available for public inspection during regular business hours at the same address.

All responses to this notice will be summarized and included in the request for OMB approval. All comments will become a matter of public record.

Dated: April 20, 2016.
Elanor Starmer,
Administrator.

[FR Doc. 2016-09619 Filed 4-25-16; 8:45 am]

BILLING CODE 3410-02-P